DEPARTMENT OF ENERGY

Federal Energy Regulatory Commission

Combined Notice of Filings #2

Take notice that the Commission received the following exempt wholesale generator filings:

Docket Numbers: EG12-17-000.

Applicants: Blackwell Wind, LLC.

Description: Notice of Self-Certification of Exempt Wholesale Generator Status of Blackwell Wind, LLC under EG12-17.

Filed Date: 12/5/11.

Accession Number: 20111205-5060.

Comments Due: 5 p.m. ET 12/27/11.

Take notice that the Commission received the following electric rate filings:

Docket Numbers: ER10-1549-001; ER10-2638-002; ER10-2670-001; ER10-2670-002; ER10-2669-001; ER10-2669-002; ER10-2671-001; ER10-2671-002; ER10-2673-001; ER10-2673-002; ER10-2253-001; ER10-2253-002; ER10-3319-002; ER10-3319-003; ER10-2674-001; ER10-2674-002; ER10-1543-001; ER10-1544-001; ER10-2627-001; ER10-2627-002; ER10-2629-001; ER10-2629-002; ER10-1546-002; ER10-1546-003; ER11-1933-001; ER10-1547-001; ER10-1547-002; ER10-2675-001; ER10-2675-002; ER10-2676-001; ER10-2676-002; ER10-2636-001; ER10-2636-002; ER10-1975-001; ER10-1975-003; ER10-1974-001; ER10-1974-003; ER10-1550-002; ER10-1550-003; ER11-2424-002; ER11-2424-005; ER10-2677-001; ER10-2677-002; ER10-1551-001; ER10-1551-002; ER10-2678-001; ER10-2638-001.

Applicants: ANP Blackstone Energy Company, LLC, ANP Bellingham Energy Company, LLC,ANP Funding I, LLC, Armstrong Energy Limited Partnership, L., Astoria Energy, LLC, Astoria Energy II LLC, Calumet Energy Team, LLC, Choctaw Gas Generation, LLC, Choctaw Generation Limited Partnership, FirstLight Hydro Generating Corporation, FirstLight Power Resources Management, L,GDF SUEZ Energy Marketing NA, Inc., Green Mountain Power Corporation, Hopewell Cogeneration Ltd Partnership, Hot Spring Power Company, LLC.

Description: Update to Notice of Change in Status and Northeast Triennial Supplemental Information of GDF SUEZ Entities.

Filed Date: 8/22/11.

Accession Number: 20110822-5233.

Comments Due: 5 p.m. ET 12/7/11.

Docket Numbers: ER12-67-001.

Applicants: Northeast Energy Associates, A Limited Partnership.

Description: Northeast Energy Associates, a Limited Partnership Revisions to MBR Tariff to be effective 7/26/2010.

Filed Date: 10/26/11.

Accession Number: 20111026-5164.

Comments Due: 5 p.m. ET 12/7/11.

Docket Numbers: ER12-68-001.

Applicants: North Jersey Energy Associates, A Limited Partnership.

Description: North Jersey Energy Associates, A Limited Partnership Revision to MBR Tariff to be effective 7/26/2010.

Filed Date: 10/26/11.

Accession Number: 20111026-5165.

Comments Due: 5 p.m. ET 12/7/11.

Docket Numbers: ER11-3881-002.

Applicants: New York Independent System Operator, Inc.

Description: NYISO compliance filing re: ATC definition and NAESB WEQ standards to be effective 12/5/2011.

Filed Date: 12/5/11.

Accession Number: 20111205-5111.

Comments Due: 5 p.m. ET 12/27/11.

Docket Numbers: ER12-529-000.

Applicants: PJM Interconnection, L.L.C.

Description: Ministerial Correction to the PJM Operating Agreement Section 15.1.6 to be effective 2/6/2012.

Filed Date: 12/5/11.

Accession Number: 20111205-5045.

Comments Due: 5 p.m. ET 12/27/11.

Docket Numbers: ER12-530-000.

Applicants: Duke Energy Carolinas, LLC.

Description: NCMPA RS 318 Amendment to be effective 1/1/2012.

Filed Date: 12/5/11.

Accession Number: 20111205-5061.

Comments Due: 5 p.m. ET 12/27/11.

Docket Numbers: ER12-531-000.

Applicants: PJM Interconnection, L.L.C.

Description: Original Service Agreement Nos. 3156 and 3157-PJM Queue X2-082 to be effective 11/4/2011.

Filed Date: 12/5/11.

Accession Number: 20111205-5064.

Comments Due: 5 p.m. ET 12/27/11.

Docket Numbers: ER12-532-000.

Applicants: PacifiCorp.

Description: Cancelation of Cedar Creek E&P Agreement to be effective 2/4/2012.

Filed Date: 12/5/11.

Accession Number: 20111205-5086.

Comments Due: 5 p.m. ET 12/27/11.

Docket Numbers: ER12-533-000.

Applicants: PJM Interconnection, L.L.C.

Description: Original Service Agreement No. 3153; Queue No. W1-029 to be effective 11/4/2011.

Filed Date: 12/5/11.

Accession Number: 20111205-5092.

Comments Due: 5 p.m. ET 12/27/11.

Docket Numbers: ER12-534-000.

Applicants: United Wisdom Energy LLC.

Description: United Wisdom Energy, LLC Notification of Cancellation.

Filed Date: 12/5/11.

Accession Number: 20111205-5102.

Comments Due: 5 p.m. ET 12/27/11.

Docket Numbers: ER12-535-000.

Applicants: PJM Interconnection, L.L.C.

Description: Original Service Agreements Nos. 3154 and 3155; Queue No. X2-076 to be effective 11/4/2011.

Filed Date: 12/5/11.

Accession Number: 20111205-5110.

Comments Due: 5 p.m. ET 12/27/11.

Take notice that the Commission received the following land acquisition reports:

Docket Numbers: LA11-3-000.

Applicants: BP Energy Company, BP West Coast Products LLC, Cedar Creek Wind Energy, LLC, Cedar Creek II, LLC, Flat Ridge Wind Energy, LLC, Fowler Ridge II Wind Farm LLC, Fowler Ridge III Wind Farm LLC, Fowler Ridge Wind Farm LLC, Goshen Phase II, LLC, Long Island Solar Farm LLC, Rolling Thunder I Power Partners, LLC, Watson Cogeneration Company, and Whiting Clean Energy, Inc.

Description: Supplemental Filing of BP Energy Company, et al.

Filed Date: 12/5/11.

Accession Number: 20111205-5087.

Comments Due: 5 p.m. ET 12/27/11.

Take notice that the Commission received the following qualifying facility filings:

Docket Numbers: QF12-74-000.

Applicants: NRG Energy Center Harrisburg Hospital LLC.

Description: NRG Energy Harrisburg Hospital for A 6.3 MW CHP submits FERC Form 556 Notice of Certification of Qualifying Status for a Small Power Production or Cogeneration Facility.

Filed Date: 11/30/11.

Accession Number: 20111130-5351.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 5, 2011.
Nathaniel J. Davis, Sr.,
Deputy Secretary.

[FR Doc. 2011-31790 Filed 12-9-11; 8:45 am]

BILLING CODE 6717-01-P